DEPARTMENT OF HEALTH AND HUMAN SERVICES

National Institutes of Health

Center for Scientific Review; Amended Notice of Meeting

Notice is hereby given of a change in the meeting of the Oral, Dental and Craniofacial Sciences Study Section, October 16, 2013, 08:00 a.m. to October 17, 2013, 05:00 p.m., Doubletree Hotel Bethesda, (Formerly Holiday Inn Select), 8120 Wisconsin Avenue, Bethesda, MD, 20814 which was published in the Federal Register on September 17, 2013, 78 FR Pgs. 57168-57169.

The meeting will start on November 19, 2013 at 9:00 a.m. and will end on November 20, 2013 at 5:00 p.m. The meeting location remains the same. The meeting is closed to the public.

Dated: October 23, 2013.
David Clary,
Program Analyst, Office of Federal Advisory Committee Policy.

[FR Doc. 2013-25488 Filed 10-28-13; 8:45 am]

BILLING CODE 4140-01-P